DEPARTMENT OF COMMERCE

National Oceanic and Atmospheric Administration

Agency Information Collection Activities; Submission to the Office of Management and Budget (OMB) for Review and Approval; Comment Request; Southwest Fisheries Science Center Sea Turtle Sightings

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register during a 60-day comment period on December 6, 2021. This notice allows for an additional 30 days for public comments.

Agency: National Oceanic and Atmospheric Administration, National Marine Fisheries Service, Commerce.

Title: Southwest Fisheries Science Center Sea Turtle Sightings.

OMB Control Number: 0648-XXXX.

Form Number(s): None.

Type of Request: Regular. New information collection.

Number of Respondents: 132.

Average Hours per Response: 5 minutes.

Total Annual Burden Hours: 11 hours.

Needs and Uses: NOAA's Southwest Fisheries Science Center (SWFSC) is sponsoring a new information collection under the Endangered Species Act for the purpose of collecting data on West Coast sea turtle sightings from members of the public. The data collected would include: Date of the sighting, time of the sighting, sea turtle species (if known), behavior, estimated size, geographic location, photos (if taken), and the public respondent's email address (used to ask follow-up questions if necessary). This information would be used by the SWFSC's Marine Turtle Ecology & Assessment Program to monitor the distribution and timing of sea turtle occurrence along the U.S. West Coast, which will accordingly support its mission to conserve and protect threatened and endangered sea turtle populations.

Affected Public: Individuals or households.

Frequency: On occasion.

Respondent's Obligation: Voluntary.

Legal Authority: Endangered Species Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-04353 Filed 3-1-22; 8:45 am]

BILLING CODE 3510-22-P